DEPARTMENT OF TRANSPORTATION

Federal Aviation Administration

14 CFR Part 39

[Docket No. FAA-2005-22035; Directorate Identifier 2005-NM-016-AD]

RIN 2120-AA64

Airworthiness Directives; Airbus Model A300 B2 and B4 Series Airplanes

AGENCY: Federal Aviation Administration (FAA), Department of Transportation (DOT).

ACTION: Notice of proposed rulemaking (NPRM).

SUMMARY: The FAA proposes to adopt a new airworthiness directive (AD) for all Airbus Model A300 B2 and B4 series airplanes. This proposed AD would require an inspection to determine the part number of all angle of attack (AOA) sensors, and repetitive replacement of the AOA sensors with new or overhauled AOA sensors if necessary. This proposed AD would also provide an optional terminating action for the repetitive replacements. This proposed AD is prompted by reports of several false stall warnings associated with stick-shaker activation, occurring during take-off. We are proposing this AD to prevent false stall warnings associated with stick-shaker activation, which could result in increased pilot workload as the pilot tries to determine the cause of the stall warning and possible reduction in the pilot's ability to control the airplane.

DATES: We must receive comments on this proposed AD by September 7, 2005.

ADDRESSES: Use one of the following addresses to submit comments on this proposed AD.

• DOT Docket Web site: Go to http://dms.dot.gov and follow the instructions for sending your comments electronically.

• Government-wide Rulemaking Web site: Go to http://www.regulations.gov and follow the instructions for sending your comments electronically.

• Mail: Docket Management Facility, U.S. Department of Transportation, 400 Seventh Street SW., Nassif Building, Room PL-401, Washington, DC 20590.

• Fax: (202) 493-2251.

• Hand Delivery: Room PL-401 on the plaza level of the Nassif Building, 400 Seventh Street SW., Washington, DC, between 9 a.m. and 5 p.m., Monday through Friday, except Federal holidays.

Contact Airbus, 1 Rond Point Maurice Bellonte, 31707 Blagnac Cedex, France, for service information identified in this proposed AD.

FOR FURTHER INFORMATION CONTACT: Tim Backman, Aerospace Engineer, International Branch, ANM-116, FAA, Transport Airplane Directorate, 1601 Lind Avenue, SW., Renton, Washington 98055-4056; telephone (425) 227-2797; fax (425) 227-1149.

SUPPLEMENTARY INFORMATION:

Comments Invited

We invite you to submit any relevant written data, views, or arguments regarding this proposed AD. Include the docket number “FAA-2005-22035; Directorate Identifier 2005-NM-016-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

The Direction Générale de l'Aviation Civile (DGAC), which is the airworthiness authority for France, notified us that an unsafe condition may exist on certain Airbus Model A300 B2 and B4 series airplanes. The DGAC advises that it has received reports of several false stall warnings associated with stick-shaker activation, occurring during take-off. Investigation revealed that defective angle of attack (AOA) sensors caused the false stall warnings. This condition, if not corrected, could result in increased pilot workload as the pilot tries to determine the cause of the stall warning and possible reduction in the pilot's ability to control the airplane.

Relevant Service Information

Airbus has issued Service Bulletin A300-34-0176, Revision 01, dated February 3, 2004, which describes the following procedures:

• Inspecting zone 120 to determine the part number (P/N) of all three AOA sensors.

• Repetitively replacing any Honeywell AOA sensor having P/N 965-4020-007 with a new or overhauled AOA sensor.

Accomplishing the actions specified in the service information is intended to adequately address the unsafe condition. The DGAC mandated the service information and issued French airworthiness directive F-2003-457 R1, dated December 22, 2004, to ensure the continued airworthiness of these airplanes in France.

Airbus has also issued Service Bulletin A300-34-0092, Revision 03, dated November 2, 2004. Service Bulletin A300-34-0092 describes the following procedures:

• Replacing Honeywell “pencil” AOA sensors having P/N 965-4020-007 with “vane” AOA sensors between frame (FR)18 and FR19.

• Replacing the current detectors in relay boxes 252VU and 107VU with new current detectors.

Airbus Service Bulletin A300-34-0092 also specifies that accomplishing the modification in that service bulletin cancels the actions specified in Airbus Service Bulletin A300-34-0176.

FAA's Determination and Requirements of the Proposed AD

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. We have examined the DGAC's findings, evaluated all pertinent information, and determined that we need to issue an AD for products of this type design that are certificated for operation in the United States.

Therefore, we are proposing this AD, which would require accomplishing the actions specified in the service information described previously, except as discussed under “Difference Between the Proposed AD and Service Bulletin.”

Difference Between the Proposed AD and Service Bulletin

Operators should note that, although the Accomplishment Instructions of the Airbus Service Bulletin A300-34-0176, Revision 01, dated February 3,2004, describe procedures for reporting inspection findings, this proposed AD would not require that action. We do not need this information from operators.

Costs of Compliance

The following table provides the estimated costs for U.S. operators to comply with this proposed AD.

Estimated Costs
Action | Work hours | Average labor rate per hour | Parts | Cost per airplane | Number of U.S.- registered airplanes | Fleet cost
Inspection | 1 | $65 | None | $65 | 20 | $1,300.
Replacement if necessary, per replacement cycle | 2 | 65 | $3,300 ($1,100 per sensor) | 3,430 | 20 | $68,600 per replacement cycle.
Optional terminating action | 7 | 65 | $8,780 | 9,235 | 20 | $184,700.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus: Docket No. FAA-2005-22035; Directorate Identifier 2005-NM-016-AD.

Comments Due Date

(a) The Federal Aviation Administration must receive comments on this AD action by September 7, 2005.

Affected ADs

(b) None.

Applicability: (c) This AD applies to all Airbus Model A300 B2-1A, B2-1C, B2K-3C, and B2-203 airplanes; and Model A300 B4-2C, B4-103, and B4-203 airplanes; certificated in any category.

Unsafe Condition

(d) This AD was prompted by reports of several false stall warnings associated with stick-shaker activation, occurring during take-off. We are issuing this AD to prevent false stall warnings associated with stick-shaker activation, which could result in increased pilot workload as the pilot tries to determine the cause of the stall warning and possible reduction in the pilot's ability to control the airplane.

Compliance: (e) You are responsible for having the actions required by this AD performed within the compliance times specified, unless the actions have already been done.

Inspection and Repetitive Replacement, if Necessary

(f) Within 4,500 flight hours or 36 months after the effective date of this AD, whichever is first: Inspect zone 120 to determine the part number of all three angle of attack (AOA) sensors, in accordance with the Accomplishment Instructions of Airbus Service Bulletin A300-34-0176, Revision 01, dated February 3, 2004. If no Honeywell AOA sensor having part number (P/N) 965-4020-007 is found, then no further action is required by this paragraph. If any Honeywell AOA sensor having P/N 965-4020-007 is found, before further flight, replace the AOA sensor with a new or overhauled AOA sensor having P/N 965-4020-007, in accordance with the service bulletin. Repeat the replacement thereafter at intervals not to exceed 8,000 flight hours or 96 months, whichever is first. Accomplishing the actions specified in paragraph (g) of this AD terminates the repetitive replacements.

Optional Terminating Action

(g) Replacement of all Honeywell AOA sensors having P/N 965-4020-007 between frame (FR)18 and FR19 with “vane type” AOA sensors; and replacement of the current detectors in relay boxes 252VU and 107VU with new current detectors; in accordance with the Accomplishment Instructions of Airbus Service Bulletin A300-34-0092, Revision 03, dated November 2, 2004; terminate the repetitive replacements required by paragraph (f) of this AD.

No Reporting Requirement

(h) Although Airbus Service Bulletin A300-34-0176, Revision 01, dated February 3, 2004, specifies to submit certain information to the manufacturer, this AD does not include that requirement.

Parts Installation

(i) As of the effective date of this AD, no person may install an AOA sensor having P/N 965-4020-007 on any airplane, unless it is new or overhauled and is repetitively inspected as required by paragraph (f) of this AD.

Credit for Previously Accomplished Actions

(j) Actions done before the effective date of this AD in accordance with Airbus Service Bulletin A300-34-0176, dated July 9, 2003, are acceptable for compliance with the corresponding requirements of paragraph (f) of this AD.

Credit for Optional Terminating Action

(k) Actions done before the effective date of this AD in accordance with Airbus Service Bulletin A300-34-092, Revision 2, dated July 18, 1985, are acceptable for compliance with the requirements of paragraph (g) of this AD.

Alternative Methods of Compliance (AMOCs)

(l) The Manager, International Branch, ANM-116, Transport Airplane Directorate, FAA, has the authority to approve AMOCs for this AD, if requested in accordance with the procedures found in 14 CFR 39.19.

Related Information

(m) French airworthiness directive F-2003-457 R1, dated December 22, 2004, also addresses the subject of this AD.

Issued in Renton, Washington, on August 2, 2005.
Kevin Mullin,
Acting Manager, Transport Airplane Directorate, Aircraft Certification Service.

[FR Doc. 05-15593 Filed 8-5-05; 8:45 am]

BILLING CODE 4910-13-P